DEPARTMENT OF ENERGY

Federal Energy Regulatory Commission

[Project No. 14747-000]

Energy Resources USA Inc.; Notice of Preliminary Permit Application Accepted for Filing and Soliciting Comments, Motions To Intervene, and Competing Applications

On December 22, 2015, the Energy Resources USA Inc. filed an application for a preliminary permit under section 4(f) of the Federal Power Act proposing to study the feasibility of the proposed William H. Harsha Lake Dam Hydroelectric Project No. 14747-000, to be located at the existing William H. Harsha Lake Dam on the East Fork of Little Miami River, near the City of Batavia, in Clermont County, Ohio. The William H. Harsha Lake Dam is owned by the United States government and operated by the U.S. Army Corps of Engineers.

The proposed project would consist of: (1) A new 16-foot by 7.5-foot by 9-foot concrete conduit fitted with a 7-foot by 8-foot discharge gate; (2) a new 210-foot-long, 6-foot-diameter steel penstock fitted with a butterfly valve; (3) a new 65-foot by 45-foot reinforced concrete powerhouse containing two 1.4-megawatt (MW) horizontal Francis turbine-generators having a total combined generating capacity of 2.8 MW; (4) a new 90-foot-long by 60-foot-wide tailrace; (5) a new 45-foot-long by 30-foot-wide substation; (6) a new 1-mile-long, 69-kilovolt transmission line; and (7) appurtenant facilities. The project would have an estimated annual generation of 8.24 gigawatt-hours.

Applicant Contact: Mr. Ander Gonzalez, 350 Lincoln Road, 2nd Floor, Miami, FL 33139; telephone (954) 248-8425.

FERC Contact: Tyrone A. Williams, (202) 502-6331.

Deadline for filing comments, motions to intervene, competing applications (without notices of intent), or notices of intent to file competing applications: 60 Days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14747-000.

More information about this project, including a copy of the application, can be viewed or printed on the “eLibrary” link of Commission's Web site at http://www.ferc.gov/docs-filing/elibrary.asp. Enter the docket number (P-14747) in the docket number field to access the document. For assistance, contact FERC Online Support.

Dated: February 18, 2016.
Nathaniel J. Davis, Sr.,
Deputy Secretary.

[FR Doc. 2016-03827 Filed 2-23-16; 8:45 am]

BILLING CODE 6717-01-P